DEPARTMENT OF THE INTERIOR

Fish and Wildlife Service

[FWS-R8-ES-2014-N242; FXES11120800000-145-FF08E00000]

Final Environmental Impact Statement for the Proposed Maricopa Sun Solar Complex Multi-Species Habitat Conservation Plan, Kern County, California

AGENCY: Fish and Wildlife Service, Interior.

ACTION: Notice of availability.

SUMMARY: We, the U.S. Fish and Wildlife Service (Service), announce the availability of our final environmental impact statement (EIS) for the Maricopa Sun Solar Complex Multi-Species Habitat Conservation Plan (HCP), in accordance with the National Environmental Policy Act of 1969, as amended (NEPA), and its implementing regulations, as well as in compliance with the Endangered Species Act of 1973, as amended (Act). The final EIS was updated to address the comments received on the 2014 draft EIS and considers the environmental effects of issuing an incidental take permit for five animal species in response to the application from Maricopa Sun, LLC (Applicant). The Applicant has prepared the final Maricopa Sun Solar Complex Habitat Conservation Plan (HCP) to describe and implement a conservation plan that will minimize and mitigate environmental effects associated with the incidental take of five animal species (“Covered Species”) associated with the construction, operation, maintenance, and decommissioning of an up to 700 megawatt photo-voltaic power generating facility and implementation of conservation actions associated with the HCP in Kern County, California.

DATES: A Record of Decision will be signed no sooner than 30 days after the publication date announcing this final EIS. We will accept comments received by January 7, 2015.

ADDRESSES: Obtaining Documents: You may download copies of the final EIS and final HCP from the Sacramento Fish and Wildlife Office Web site at http://www.fws.gov/sacramento. Alternatively you may use one of the methods below to request a CD-ROM of the documents. Please send your requests or comments by any one of the following methods.

Submitting Comments: You may submit comments or requests for copies or more information by one of the following methods.

• U.S. Mail: U.S. Fish and Wildlife Service; Sacramento Fish and Wildlife Office; Attn: Mr. Mike Thomas, Chief, Conservation Planning Division; 2800 Cottage Way, W-2605, Sacramento, CA 95825.

• In-Person Drop-off, Viewing, or Pickup: Telephone 916-414-6600 to make an appointment during regular business hours to drop off comments or view received comments at the Sacramento Fish and Wildlife Office.

• Fax: Mr. Mike Thomas, Chief, Conservation Planning Division, 916-414-6713.

FOR FURTHER INFORMATION CONTACT: Mike Thomas, Chief, Conservation Planning Division, or Eric Tattersall, Deputy Assistant Field Supervisor, at the address in ADDRESSES or at (916) 414-6600 (telephone). Persons who use a telecommunications device for the deaf (TDD) may call the Federal Information Relay Service (FIRS) at (800) 877-8339 to contact the above individuals during normal business hours. The FIRS is available 24 hours a day, 7 days a week, to leave a message or question with the above individuals. You will receive a reply during normal business hours.

SUPPLEMENTARY INFORMATION: This notice announces the availability of the final EIS under the National Environmental Policy Act of 1969, as amended (42 U.S.C. 4321-4347 et seq.; NEPA), and its implementing regulations in the Code of Federal Regulations (CFR) at 40 CFR 1500-1508, as well as in compliance with section 10(c) of the Endangered Species Act (16 U.S.C. 1531-1544 et seq.; Act).

Background Information

Section 9 of the Act (16 U.S.C. 1531-1544 et seq.) and Federal regulations at 50 CFR 17 prohibit the taking of fish and wildlife species listed as endangered or threatened under section 4 of the Act. Take of federally listed fish or wildlife is defined under the Act as to “harass, harm, pursue, hunt, shoot, wound, kill, trap, capture, or collect, or attempt to engage in such conduct” 16 U.S.C. 1532(19)). The term “harm” is defined in the regulations as “an act which actually kills or injures wildlife such act may include significant habitat modification or degradation where it actually kills or injures wildlife by significantly impairing essential behavioral patterns, including breeding, feeding, or sheltering” (50 CFR 17.3). However, under specified circumstances, the Service may issue permits that allow the take of federally listed fish or wildlife species, provided that the take that occurs is incidental to, but not the purpose of, an otherwise lawful activity.

Regulations governing permits for endangered and threatened species are at 50 CFR 17.22 and 17.32, respectively. Section 10(a)(1)(B) of the Act contains provisions for issuing such incidental take permits to non-Federal entities for the take of endangered and threatened species, provided the following criteria are met:

(1) The taking will be incidental;

(2) The applicants will, to the maximum extent practicable, minimize and mitigate the impact of such taking;

(3) The applicants will develop a proposed HCP and ensure that adequate funding for the HCP will be provided;

(4) The taking will not appreciably reduce the likelihood of the survival and recovery of the species in the wild; and

(5) The applicants will carry out any other measures that the Service may require as being necessary or appropriate for the purposes of the HCP.

The final HCP addresses, and the Applicant seeks incidental take authorization for, five animal species (three federally endangered and two federally non-listed). The proposed permit would provide take authorization for all species identified in the final HCP as Covered Species. Take authorized for listed Covered Species would be effective upon permit issuance. Take authorization for currently non-listed Covered Species would become effective concurrent with listing, should the species be listed under the Act during the proposed 35-year Permit Term.

The following three federally listed endangered species are included as Covered Species in the HCP: Blunt-nosed leopard lizard (Gambelia sila), Tipton kangaroo rat (Dipodomys nitratoides nitratoides), and San Joaquin kit fox (Vulpes macrotis mutica). The following two federally non-listed species are included as Covered Species in the HCP: Western burrowing owl (Athene cunicularia) and Nelson's antelope squirrel (Ammospermophilus nelsoni).

Activities proposed for coverage under the incidental take permit (“Covered Activities”) include, but are not limited to the following general categories: Construction and operation activities within Solar Sites; management and maintenance activities within Movement Corridors; management activities within the areas designated for conservation (Conservation Sites), including monitoring and reporting actions; activities associated with implementation of the conservation program specified in the final HCP; decommissioning; and implementation of the conservation program.

Construction-related activities could include grading and compaction, trenching, paving of access roads, installation of solar arrays, meteorological stations, transmission lines, septic leech fields, fencing, and landscaping. Construction of solar facilities on all sites is anticipated to be completed over an 8-to-10-year period from the commencement of the initial development; however, could it extend to a 10-to-15-year period. Construction of the project will occur in a series of approximately 1-megawatt blocks, generally consisting of 5 to 8.64 acres each. It is anticipated that construction of each section (640 acres) within the Maricopa Sun Solar Complex will take 12 to 18 months. Operation-related activities could include solar panel maintenance, on-site parking, operation of solar modules, inspection, and repair of equipment, and operation of lighting. Typical activities associated with decommissioning of the solar energy facility include removal of all solar electric systems, buildings, cabling, electrical components, breaking up of concrete pads and foundations, removal of access roads, additional grading, and replacement of soil disturbed from decommissioning. Preservation/enhancement and conservation plan management activities could include vegetation control (i.e., grazing and mowing), fence installation, special status species monitoring (i.e., surveys such as trapping, use of remote cameras and spotlighting), and habitat restoration and creation.

The proposed Covered Activities related to development and operations and maintenance of the solar sites would result in the permanent or temporary disturbance of up to 3,798 acres of existing land cover within the proposed 5,784-acre Permit Area. The proposed Covered Activities related to management of the Conservation Sites would also result in some disturbance of land cover, but overall these actions are expected to benefit the Covered Species. The Solar Site Parcels encompass 3,798 acres (plus 91 acres of existing public easements), and Conservation Sites total 1,894 acres. The Covered Lands are primarily comprised of currently undeveloped and vacant agricultural land, and are relatively flat. Surrounding land uses are both active and inactive agricultural land; they also include lands designated as flood hazard areas, public facilities, lands designated for the protection of important watershed recharge areas or wildlife habitat, lands having important value as a buffer between resource areas and urban areas, and lands designated for industrial uses. Covered Activity impacts to existing land cover types were used as a surrogate to identify maximum potential impacts to species and the potential take of each Covered Species. The proposed HCP conservation strategy prescribes conditions for implementing each Covered Activity that avoid or minimize potential take of the Covered Species, and identifies mitigation for species impacts that cannot be avoided.

National Environmental Policy Act Compliance

Our proposed permit issuance decision triggers compliance with NEPA, which requires that environmental information be available to public officials and citizens before Federal decisions are made and before Federal actions are taken. We formally initiated an environmental review of the draft EIS through publication of a notice of intent (NOI) to prepare a draft EIS in the Federal Register on Friday, December 23, 2011 (76 FR 80385). That notice also announced a public scoping period, during which we invited interested parties to provide written comments expressing their issues or concerns related to the proposal. A public scoping meeting was held in Bakersfield, California, on January 23, 2012. We prepared a draft EIS and published a notice of availability (NOA) in the Federal Register on Wednesday, May 28, 2014 (79 FR 30638). We received one comment letter on the draft EIS. A response to the comment received has been included in the final EIS and revisions to the final EIS. The analysis provided in the final EIS is intended to accomplish the following: Inform the public of the Service's proposed permit action and alternatives and the environmental impacts of the alternatives, and address public comments received on the draft EIS.

Public Comments

The Service invites the public to review the permit application, final EIS, and final HCP during the public comment period (see DATES). You may submit any comments and materials by one of the methods listed in ADDRESSES. Before including your address, phone number, or other personal identifying information in your comment, you should be aware that your entire comment—including your personal identifying information—might be made publicly available at any time. While you can ask us in your comment to withhold your personal identifying information from public review, we cannot guarantee that we will be able to do so.

Next Steps

We will evaluate the application, associated documents, and comments submitted to determine whether the application meets the requirements of section 10(a) of the Act. The Service will then prepare a Record of Decision. A permit decision will be made no sooner than 30 days after the publication of the final EIS notice in the Federal Register and completion of the Record of Decision.

Dated: December 2, 2014.
Paul B. McKim
Deputy Regional Director, Fish and Wildlife Service, Pacific Southwest Region, Sacramento, California.

[FR Doc. 2014-28696 Filed 12-5-14; 8:45 am]

BILLING CODE 4310-55-P